DEPARTMENT OF EDUCATION

Applications for New Awards; Training and Information for Parents of Children With Disabilities—Technical Assistance for Parent Centers

AGENCY: Office of Special Education and Rehabilitative Services, Department of Education.

ACTION: Notice.

Overview Information:

Training and Information for Parents of Children with Disabilities—Technical Assistance for Parent Centers Notice inviting applications for new awards for fiscal year (FY) 2013.

Catalog of Federal Domestic Assistance (CFDA) Number: 84.328R.

DATES: Applications Available: June 3, 2013.

Deadline for Transmittal of Applications: July 18, 2013.

Deadline for Intergovernmental Review: September 16, 2013.

Full Text of Announcement

I. Funding Opportunity Description

Purpose of Program: The purpose of this program is to ensure that parents of children with disabilities receive training and information to help improve results for their children.

Priorities: In accordance with 34 CFR 75.105(b)(2)(iv), these priorities are from allowable activities specified in the statute (see sections 671, 672, 673, and 681(d) of the Individuals with Disabilities Education Act (IDEA)).

Absolute Priority: For FY 2013 and any subsequent year in which we make awards from the list of unfunded applicants from this competition, this priority is an absolute priority. Under 34 CFR 75.105(c)(3), we consider only applications that meet this priority.

This priority is: Technical Assistance for Parent Centers.

Background:

The purpose of this priority is to fund eight cooperative agreements to support the establishment and operation of eight Technical Assistance Centers for Parent Centers (PTACs) in three focus areas. Section 673 of IDEA authorizes the provision of technical assistance (TA) for developing, assisting, and coordinating parent training and information programs carried out by parent training and information centers (PTIs) receiving assistance under section 671 of IDEA and community parent resource centers (CPRCs) receiving assistance under section 672 of IDEA, collectively referred to as “parent centers.”

The 100 parent centers currently funded by the Department of Education (Department) promote the effective education of infants, toddlers, children, and youth with disabilities by “strengthening the role and responsibility of parents and ensuring that families of such children have meaningful opportunities to participate in the education of their children at school and at home” (section 601(c)(5)(B) of IDEA). Parent centers provide information, individual assistance, and training that enable parents to (1) ensure that their children are included in general education classrooms and extracurricular activities with their peers; (2) help their children meet developmental and academic goals; (3) help their children meet challenging expectations established for all children, including college- and career-ready standards; and (4) prepare their children to achieve positive postsecondary outcomes that lead to lives that are as productive and independent as possible (section 601(c)(5)(A) of IDEA). In the 30 years since the Department funded the first parent center, parent centers, consistent with section 671(b) of IDEA, have successfully helped families navigate systems providing early intervention, special education, general education, postsecondary options, and related services; understand the nature of their children's disabilities; learn about their rights and responsibilities under IDEA; expand their knowledge of evidence-based education practices to help their children succeed; strengthen their collaboration with professionals; locate resources available for themselves and their children; and advocate for improved student achievement, increased graduation rates, and improved postsecondary outcomes for all children through participation in school reform activities. In addition, parent centers have helped youth with disabilities understand their rights and responsibilities and learn self-advocacy skills.

Technical Assistance Centers for Parent Centers (PTACs) provide support to parent centers' to carry out these statutorily required activities and, in doing so, help parents participate in the education of their children at school and at home, thereby improving outcomes for children with disabilities. Section 673(b) of IDEA also lists areas in which parent centers may need TA: (1) Coordinating parent training efforts; (2) disseminating scientifically based research and information; (3) promoting the use of technology, including assistive technology devices and assistive technology services; (4) reaching underserved populations, including parents of low-income and limited English proficient children with disabilities; (5) including children with disabilities in general education programs; (6) facilitating all transitions from early intervention through postsecondary environments; and (7) promoting alternative methods of dispute resolution, including mediation.

Parent centers may also benefit from TA on the most current information on laws, policies, and evidence-based education practices affecting children with disabilities; how data can be used to inform instruction; how to interpret results from evaluations and assessments; and ways to effectively engage in school reform activities, including how to interpret and use the data that informs those activities. Ongoing TA, responsive to the individual needs of parent centers, builds parent center staff knowledge and expertise on these topics. In addition, since many parent centers are grassroots organizations with small budgets, they may benefit from TA on managing a Federal grant, maximizing efficiencies, and meeting complex statutory and regulatory requirements for nonprofits.

Parent centers also need support to increase their capacity to reach and provide services to all parents of children with disabilities, particularly parents of infants, toddlers, preschool children and transition-age youth; youth with disabilities; parents with limited English proficiency; underserved parents; and Native American parents. The following Web site provides more information on the current parent centers and PTACS, including links to each grantee's Web site: www.parentcenternetwork.org.

In order to ensure that parent centers receive the TA they need to increase their knowledge and capacity to provide services to parents and youth effectively and efficiently, the Department plans to build on the work of the currently funded PTACs and Native American PTI by funding eight PTACs: A Center for Parent Information and Resources; six Regional PTACs; and a Native American PTAC.

Center for Parent Information and Resources (CPIR). The CPIR will focus on disseminating resources ¹ to all parent centers, providing universal TA ² on the use of those resources, and supporting parent centers in the annual data collection required under section 671(b)(12) of IDEA. The CPIR will develop products ³ for parent centers to use when providing services to parents and youth and maintain a central repository of other available resources that parent centers can use to better manage their work and help support and train parents and youth. The products the CPIR provides will contain up-to-date, accurate, family-centered information. Providing these products and resources to parent centers will allow them to focus their time and effort on providing services to families, rather than on developing products and resources. In addition, a central source of products and resources will minimize duplication, help ensure consistency in the quality of the information parents and youth receive while still allowing flexibility for parent centers to modify the products and resources to meet their needs, and facilitate better coordination among the parent centers.

¹ As used in this priority, “resources” means sources of information or expertise that help parent centers carry out their work. Resources are used by parent center staff and are generally not provided to families. Examples of resources include guides for trainers to use a specific curriculum, a listing of parent center staff expertise, and open source Web templates, among others.

² As used in this priority, “universal TA” means TA and information provided to independent users through their own initiative, resulting in minimal interaction with TA center staff. This category of TA includes information or products, such as newsletters, guidebooks, or research syntheses, downloaded from the PTAC's Web site by independent users. Brief communications by PTAC staff with recipients, either by telephone or email, are also considered universal, general TA. The following Web site provides more information on levels of TA: www.tadnet.org.

³ A product is a piece of work, in text or electronic form, developed and disseminated by a project to inform a specific audience on a topic relevant to the improvement of outcomes for children with disabilities. Examples of products include journal or informational articles, booklets, pamphlets, manuals, DVDs, CDs, multimedia kits or modules, and PowerPoint presentations.

Regional PTACs. In addition to the CPIR, the Department will fund six Regional Technical Assistance Centers for Parent Centers (Regional PTACs). Each Regional PTAC will provide differentiated targeted TA ⁴ and intensive TA ⁵ directly to parent centers that meet the unique needs of each parent center in its region. The TA will focus on increasing parent centers' capacity to effectively manage their work, reach more parents and youth, and help parents improve outcomes for their children. The Regional PTACs will not develop new products and resources for the parent centers to use when providing services directly to parents. However, Regional PTACs may develop products and resources to be used in management and capacity-building activities with the parent centers in its region, such as management decision matrices, templates to respond to information requests, self-assessment rubrics, or materials for presentations to parent center staff and board members.

⁴ As used in this priority, “targeted TA” means TA services developed based on needs common to multiple recipients and not extensively individualized. A relationship is established between the TA recipient and one or more TA center staff. This category of TA can be one-time, labor-intensive events, such as facilitating strategic planning or hosting regional or national meetings. TA can also be episodic, less labor-intensive events that extend over a period of time, such as facilitating a series of conference calls on single or multiple topics that are designed around the needs of the recipients. Facilitating communities of practice can also be considered targeted, specialized TA. The following Web site provides more information on levels of TA: www.tadnet.org.

⁵ As used in this priority, “intensive TA” means TA services often provided on-site and requiring a stable, ongoing, negotiated relationship between the TA center staff and the TA recipient. The TA relationship is defined as a purposeful, planned series of activities designed to reach an outcome that is valued by the individual recipient. This category of TA results in changes to policy, program, practice, or operations that support increased recipient capacity or improved outcomes at one or more levels. The following Web site provides more information on levels of TA: www.tadnet.org.

The parent centers served by the Regional PTACs align with the States served by the Regional Resource Centers funded under the IDEA and administered by the Department's Office of Special Education (OSEP).⁶ This alignment will help the Regional PTACs meet the requirement in section 673(c) of IDEA that the Regional PTACs develop collaborative agreements with the geographically appropriate Regional Resource Centers.

⁶ For more information on the Regional Resource Center Program, go to www.rrcprogram.org.

Native American Technical Assistance Center for Parent Centers (Native American PTAC). Finally, the Department will fund a Native American PTAC to focus on building the capacity of parent centers to provide effective and culturally appropriate services to Native American ⁷ parents of children with disabilities and Native American youth with disabilities. In order to effectively support Native American parents and youth, staff at parent centers need to be knowledgeable about how Native American culture affects the training and information needs of Native American families who have a child with a disability, the varied experiences of Native American families raising a child with a disability and living on a reservation or in an urban area, and the policies governing the delivery of services to children with disabilities by early intervention programs and schools managed by the Bureau of Indian Education (BIE) and tribal governments. The Native American PTAC will provide universal TA to all parent centers on providing effective, culturally responsive services to Native American parents of children with disabilities, as well as to youth with disabilities. The Native American PTAC will also provide differentiated, targeted, and intensive TA to parent centers requesting additional support to build their capacity to provide services to Native American parents of children with disabilities and Native American youth with disabilities.

⁷ “Native American,” as used in this priority, refers to American Indians, Alaska Natives, Native Hawaiians, and other Pacific Islanders. For more information, go to www.census.gov/population/race/.

In addition to the three focus areas in this priority (CPIR, Regional PTACs, Native American PTAC) there are three competitive preference priorities within this priority. For an applicant under Focus Area 2 or 3, Regional PTACs or the Native American PTAC, the first competitive preference priority will award an additional five points if the applicant is a nonprofit organization that meets the IDEA definition of a “parent organization”.⁸ We believe such an organization will understand the day-to-day challenges of managing a parent center and providing services to families.

⁸ Section 671(a)(2) of IDEA defines a “parent organization” as a private nonprofit organization (other than an institution of higher education) that—

(A) Has a board of directors—

(i) The majority of whom are parents of children with disabilities ages birth through 26;

(ii) That includes—

(I) Individuals working in the fields of special education, related services, and early intervention;

(II) Individuals with disabilities; and

(III) The parent and professional members of which are broadly representative of the population to be served, including low-income parents and parents of limited English proficient children; and

(B) Has as its mission serving families of children with disabilities who—

(i) Are ages birth through 26; and

(ii) Have the full range of disabilities described in section 602(3) of IDEA.

For an applicant under Focus Area 2, Regional PTACs, the second competitive preference priority will award an additional five points if the applicant is located in the region that it proposes to serve. We believe such an organization will understand regional needs and perspectives, and use its travel budget more efficiently.

For an applicant under Focus Area 3, the Native American PTAC, the third competitive preference priority will award five additional points if the applicant is a nonprofit organization administered by a board of directors, the majority of whom are Native Americans. We believe that a board of directors with Native American members is critical to ensuring that the TA provided by the Native American PTAC will focus on the important issues faced by Native American families who have children with disabilities, and Native American youth with disabilities.

Priority:

This priority will fund eight cooperative agreements to support the establishment and operation of eight PTACs in three focus areas. Under Focus Area 1, the Department intends to fund one CPIR. The CPIR, must, at a minimum: (a) Increase parent centers' knowledge of: Evidence-based education practices that improve early learning, school-aged, and postsecondary outcomes; college- and career-ready standards and assessments; school reform efforts to improve student achievement and increase graduation rates; the use of data to inform instruction and advance school reform efforts; and best practices in nonprofit management, outreach, family-centered services, self-advocacy skill building, and the use of technology in service provision and nonprofit management; and (b) increase the coordination of parent training efforts.

Under Focus Area 2, the Department intends to fund six Regional PTACs. Regional PTACs must, at a minimum, increase the capacity of the parent centers in their geographic areas to (a) reach and provide services to parents of children with disabilities and youth with disabilities, and (b) effectively manage their centers. The six Regional PTACs will be awarded to represent the following six geographic regions:

Region 1 PTAC: CT, ME, MA, NH, NJ, NY, PA, RI, VT.

Region 2 PTAC: DE, KY, MD, NC, SC, TN, VA, DC, WV.

Region 3 PTAC: AL, AR, FL, GA, LA, MS, OK, Puerto Rico, TX, U.S. Virgin Islands.

Region 4 PTAC: IL, IN, IA, MI, MN, MO, OH, WI.

Region 5 PTAC: AZ, CO, KS, MT, NE., ND, NM, SD, UT, WY.

Region 6 PTAC: AK, CA, HI, ID, NV, OR, WA, the outlying areas of the Pacific Basin, and the Freely Associated States.

Under Focus Area 3, the Department intends to fund one Native American PTAC. The Native American PTAC must, at a minimum: (a) Increase knowledge in parent centers of how to provide effective, culturally responsive services that meet the needs of Native American parents of children with disabilities and Native American youth with disabilities and that lead to improvements in early learning, school-aged, and postsecondary outcomes; and (b) increase the capacity of parent centers to reach and provide services to Native American parents and youth in their areas.

To be considered for funding under this priority, an applicant must meet the application, programmatic, and administrative requirements of the focus area for which it applies. An applicant may submit separate applications in more than one focus area; however, an applicant is limited to only one application in each focus area.

Focus Area 1: The requirements for this focus area, the CPIR, are as follows:

(a) Demonstrate, in the narrative section of the application, under “Significance of the Project” how the project—

(1) Addresses parent centers' needs for universal TA on the following: Evidence-based education practices that improve early learning, school-aged, and postsecondary outcomes; college- and career-ready standards and assessments; school reform efforts to improve student achievement and increase graduation rates; the use of data to inform instruction and advance school reform efforts; and best practices in nonprofit management, outreach, family-centered services, self-advocacy skill building, and the use of technology in service provision and nonprofit management. To address this requirement the applicant must—

(i) Present information on the needs of all parent centers;

(ii) Demonstrate knowledge of best practices on providing training and information to a variety of audiences, to include parents from diverse backgrounds and youth with disabilities;

(iii) Demonstrate knowledge of current evidence-based education practices and policy initiatives in early childhood, general and special education, transition services, and postsecondary options;

(iv) Demonstrate knowledge of current best practices in outreach, family-centered services, self-advocacy skill building, nonprofit management, and the use of technology in service provision and nonprofit management; and

(v) Demonstrate knowledge of current Office of Special Education Programs (OSEP) Technical Assistance and Dissemination (TA&D) projects, including the Regional Resource Center (RRC) program, among others; and

(2) Will result in more coordinated and effective efforts among the parent centers.

(b) Demonstrate, in the narrative section of the application, under “Quality of the Project Services” how the project will—

(1) Conduct a national assessment of the needs of parent centers for—

(i) Knowledge of evidence-based education practices that improve early learning, school-aged, and postsecondary outcomes; college- and career-ready standards and assessments; school reform efforts to improve student achievement and increase graduation rates; the use of data to inform instruction and advance school reform efforts; and best practices in nonprofit management, outreach, family-centered services, self-advocacy skill building, and the use of technology in service provision and nonprofit management, among others; and

(ii) Resources and products to train and inform (a) families of parental rights, evidence-based education practices, and school reform efforts; and (b) youth of their rights and responsibilities under IDEA, as well as increase their self-advocacy skills.

Note: The methods and tools that will be used to conduct the national needs assessment will be finalized in consultation with the Regional PTACs, the Native American PTAC, and the OSEP project officers in order to assure coordination and avoid duplication;

(2) Use a conceptual framework ⁹ and project logic model (see paragraph (f)(1) of this focus area) to guide the development of project plans and activities;

⁹ As used in this priority, “conceptual framework” means “a visual representation of the conceptual context(s) that supports and informs the work of a system, program, or intervention, including its underlying concepts, assumptions, expectations, beliefs or theories, as well as the presumed relationship or linkages among these variables.” The following Web site provides more information on conceptual frameworks: www.tadnet.org.

(3) Create, update, and maintain an online, annotated repository of resources produced by the CPIR, parent centers, OSEP-funded projects, other Department-funded projects, and other federally funded projects for parent centers' use with families, youth, staff members, members of the boards of directors, and professionals;

(4) Develop a process for creating new resources for parent centers to use with families, youth, staff members, members of the boards of directors, and professionals that ensures resources—

(i) Are responsive to the changing needs of parent centers;

(ii) Will be used to increase parents' knowledge of expected early learning, school-aged, and postsecondary outcomes; college- and career-ready standards and assessments; school reforms to improve student achievement and increase graduation rates; and the use of data to inform instruction and school reform activities;

(iii) Will be used to increase youth's knowledge of their rights and responsibilities, and increase their self-advocacy skills;

(iv) Will be used to inform a variety of families, youth, and professionals;

(v) Are available in a variety of formats;

(vi) Can be used in various methods to deliver TA (in-person, remote, and Web-based, among others);

(vii) Use best practices for informing and training families and youth;

(viii) Address the needs identified through the needs assessment in paragraph (b)(1) of this focus area;

(ix) Address gaps in the resources available in the repository in paragraph (b)(3) of this focus area;

(x) Address emerging educational and policy initiatives;

(xi) Are developed in consultation with the Regional PTACs, Native American PTAC, and parent centers; and

(xii) Use content-specific knowledge and expertise within parent centers in the development, review, and dissemination of the resources;

(5) Provide universal TA, as appropriate, to parent centers on evidence-based education practices that improve early learning, school-aged, and postsecondary outcomes; college- and career-ready standards and assessments; school reform efforts to improve student achievement and increase graduation rates; the use of data to inform instruction and advance school reform efforts; and best practices in nonprofit management, outreach, family-centered services, self-advocacy skill building, and the use of technology in service provision and nonprofit management that—

(i) Targets a variety of audiences (parent center directors, staff, new personnel, and members of the boards of directors, among others);

(ii) Increases parent centers' knowledge of expected early learning, school-aged, and postsecondary outcomes; college- and career-ready standards and assessments; and school reforms to improve student achievement and increase graduation rates;

(iii) Includes a variety of formats (meetings, newsletters, communities of practice, wikis, among others);

(iv) Uses various methods to deliver TA (in-person, remote, and Web-based, among others);

(v) Uses best practices for training and providing TA to adult learners;

(vi) Uses technology to increase its efficiency and effectiveness;

(vii) Addresses the needs identified through the needs assessment in paragraph (b)(1) of this focus area;

(viii) Addresses emerging educational and policy initiatives;

(ix) Is developed in consultation with the Regional PTACs, Native American PTAC, and parent centers; and

(x) Leverages content-specific knowledge and expertise within parent centers;

(6) Assist parent centers in the collection of annual performance data required under section 671(b)(12) of IDEA, in consultation with the OSEP project officer;

(7) Disseminate information about the CPIR, OSEP's Technical Assistance and Dissemination Network, OSEP initiatives, and other Department-funded resources and initiatives in collaboration with the Regional PTACs and Native American PTAC that—

(i) Promotes parent center engagement in these initiatives; and

(ii) Makes use of existing knowledge and expertise across the parent centers, the Regional PTACs, and the Native American PTAC; and

(8) Consult with a group of persons, including representatives from parent centers, State educational agencies, State lead agencies, other OSEP-funded TA projects, project directors of State Professional Development Grants, and researchers, as appropriate, on the activities and outcomes of the CPIR and solicit programmatic support and advice from various participants in the group, as appropriate. The CPIR must identify the members of the group to OSEP within eight weeks after receipt of the award.

(c) Demonstrate, in the narrative section of the application, under “Quality of the Evaluation Plan” how—

(1) The applicant will evaluate the effectiveness of the proposed project by undertaking a formative evaluation and a summative evaluation, including a description of how the applicant will measure the outcomes proposed in the logic model (see paragraph (f)(1) of this focus area). The description must include—

(i) Evaluation methodologies, including proposed instruments, data collection methods, and possible analyses; and

(ii) Proposed standards or targets for determining effectiveness;

(2) The applicant will use the results of the formative evaluation to examine the effectiveness of project implementation strategies and the progress toward achieving intended outcomes; and

(3) Formative evaluation activities during the project period will complement and coordinate with a summative evaluation. The formative and summative evaluations will be developed in consultation with the OSEP project officer.

(d) Demonstrate, in the narrative section of the application, under “Adequacy of Project Resources” how—

(1) The proposed personnel, consultants, and contractors are highly qualified and experienced in carrying out the proposed activities and in meeting the outcomes identified in the project logic model (see paragraph (f)(1) of this focus area);

(2) The qualifications of the members of the group of persons listed in paragraph (b)(8) of this focus area are relevant to the proposed activities and outcomes;

(3) The applicant will encourage applications for employment from persons who are members of groups that have traditionally been underrepresented based on race, color, national origin, linguistic diversity, gender, age, or disability, as appropriate; and

(4) The applicant and key partners have adequate resources to carry out proposed project activities.

(e) Demonstrate, in the narrative section of the application, under “Quality of the Management Plan” how—

(1) The proposed management plan will ensure that the outcomes identified in the project logic model (see paragraph (f)(1) of this focus area) will be achieved on time and within budget;

(2) The time of key personnel, consultants, and contractors will be sufficiently allocated to the project;

(3) The proposed management plan will ensure that the products and services provided are of high quality; and

(4) The applicant will ensure that the proposed project benefits from a diversity of perspectives, including parent center staff, TA providers, researchers, and families, among others.

(f) In the narrative under “Required Project Assurances” or appendices as directed, the applicant must—

(1) Include in Appendix A, a logic model that depicts, at a minimum, the goals, activities, outputs, and outcomes of the proposed project. A logic model communicates how a project will achieve its outcomes and provides a framework for both the formative and summative evaluations of the project.

Note: The following Web sites provide more information on logic models: www.researchutilization.org/matrix/logicmodel_resource3c.html and www.tadnet.org/pages/589;

(2) Include in Appendix A, a conceptual framework for the project;

(3) Include in Appendix A, person-loading charts and timelines to illustrate the management plan described in the narrative;

(4) Ensure that the budget includes attendance at the following:

(i) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative.

(ii) A three-day project directors' conference in Washington, DC, during each year of the project period.

(iii) One trip annually to attend Department briefings, Department-sponsored conferences, and other meetings, as requested by OSEP;

(5) Ensure that the budget includes a line item for an annual set-aside of five percent of the grant amount to support emerging needs that are consistent with the proposed project's activities, as those needs are identified in consultation with OSEP.

Note: With approval from the OSEP project officer, the Center must reallocate any remaining funds from this annual set-aside no later than the end of the third quarter of each budget period;

(6) Include in the budget for the second and third years financial support for parent center project directors to travel to Washington, DC, for an annual parent center meeting. The second year budget must include financial support for 73 project directors, and the third year budget must include financial support for 30 project directors. The budget for the fourth and fifth years should not include any financial support for parent center project directors; and

(7) Ensure that the project maintains a Web site, including the repository described in paragraph (b)(3) of this focus area, that meets government or industry-recognized standards for accessibility.

Fourth and Fifth Years of the Project:

In deciding whether to continue funding the CPIR for the fourth and fifth years, the Secretary will consider the requirements of 34 CFR 75.253(a), and in addition—

(a) The recommendation of a review team consisting of experts selected by the Secretary. This review will be conducted during a one-day intensive meeting in Washington, DC, that will be held during the last half of the second year of the project period. The CPIR must budget for travel expenses associated with this review;

(b) The timeliness and effectiveness with which all requirements of the negotiated cooperative agreement have been or are being met by the CPIR; and

(c) The quality, relevance, and usefulness of the CPIR's activities and resources and the degree to which they have contributed to improved knowledge among parent centers of evidence-based education practices that lead to expected early learning, school-aged, and postsecondary outcomes; college- and career-ready standards and assessments; school reforms to improve student achievement and increase graduation rates; the use of data to inform instruction and in school reform activities; and the best practices in nonprofit management, outreach, family-centered services, self-advocacy skill building, and the use of technology in service provision and nonprofit management.

Focus Area 2: The requirements of this focus area, the Regional PTACs, are as follows:

(a) Demonstrate, in the narrative section of the application, under “Significance of the Project” how the project—

(1) Addresses the needs of parent centers in its region for targeted and intensive TA to increase their capacity to reach and provide services to parents and youth in their areas, effectively manage their centers, support parental engagement in school reform activities, and build youth's self-advocacy skills. To address this requirement the applicant must—

(i) Present appropriate information on the needs of parent centers in the region;

(ii) Demonstrate knowledge of best practices on providing training and information to a variety of audiences, to include parents from diverse backgrounds and youth;

(iii) Demonstrate knowledge of current evidence-based education practices and policy initiatives in early childhood, general and special education, transition services, and postsecondary options;

(iv) Demonstrate knowledge of current best practices in outreach, family-centered services, self-advocacy skill building, nonprofit management, and the use of technology in service provision and nonprofit management; and

(v) Demonstrate knowledge of current OSEP TA&D projects, including the RRC program, and other Department-funded projects, among others; and

(2) Will increase the capacity of the parent centers in the region to reach and provide services to parents and youth in their areas.

(b) Demonstrate, in the narrative section of the application, under “Quality of the Project Services” how the project will—

(1) Conduct a regional assessment of the needs of parent centers for ongoing targeted and intensive TA to increase their capacity to—

(i) Reach and provide services to parents and youth in their area, including appropriate referrals to other services that support families and youth;

(ii) Effectively manage their centers; and

(iii) Support parent engagement in school reform activities, including the use of data to enhance school reform efforts.

Note: The methods and tools that will be used to conduct the regional needs assessment will be finalized in consultation with the CPIR, other Regional PTACs, the Native American PTAC, and the OSEP project officer in order to assure coordination and avoid duplication;

(2) Use a conceptual framework and project logic model (see paragraph (f)(1) of this focus area) to guide the development of project plans and activities;

(3) Provide ongoing targeted TA to parent centers in the region that—

(i) Targets a variety of audiences (parent center directors, staff, new personnel, and members of the boards of directors, among others);

(ii) Uses various methods to deliver TA (e.g., in-person, remote, and Web-based) and includes at least one in-person, on-site visit to each parent center in the region during the course of the five-year project period;

(iii) Increases parent centers' capacity to provide information and training on expected early learning, school-aged, and postsecondary outcomes; college- and career-ready standards and assessments; school reforms to improve student achievement and increase graduation rates; and the use of data to inform instruction and enhance school reform efforts;

(iv) Increases parent centers' capacity to train youth on their rights and responsibilities and build their self-advocacy skills;

(v) Uses best practices for training and providing TA to adult learners;

(vi) Uses technology to increase its efficiency and effectiveness;

(vii) Addresses the needs identified through the regional needs assessment in paragraph (b)(1) of this focus area;

(viii) Responds to emerging educational and policy initiatives;

(ix) Builds on the universal TA provided by the CPIR;

(x) Is developed in consultation with the Native American PTAC and parent centers in the region; and

(xi) Makes use of existing knowledge and expertise within parent centers, the CPIR, and the other Regional PTACs;

(4) Provide intensive TA to parent centers that request it or are identified by OSEP as needing it. This intensive TA includes—

(i) Methods for identifying and accessing needed resources in other parent centers, the CPIR, the Regional PTACs, OSEP TA&D centers, other Department-funded resources, and national and State nonprofit and technology TA centers, among others;

(ii) Methods for clearly communicating with the parent centers receiving intensive TA and their OSEP project officers, as appropriate;

(iii) In-person, on-site visits with the parent centers in need of intensive TA, as appropriate; and

(iv) Methods for following up with parent centers and providing ongoing support as needed; and

(5) Disseminate information about the Regional PTACs, OSEP's Technical Assistance and Dissemination Network, OSEP initiatives, and other Department-funded resources and initiatives in collaboration with the CPIR and the Native American PTAC.

(c) Demonstrate, in the narrative section of the application, under “Quality of the Evaluation Plan” how—

(1) The applicant will evaluate the effectiveness of the proposed project by undertaking a formative evaluation and a summative evaluation, including a description of how the applicant will measure the outcomes proposed in the logic model (see paragraph (f)(2) of this focus area). The description must include—

(i) Evaluation methodologies, including proposed instruments, data collection methods, and possible analyses; and

(ii) Proposed standards or targets for determining effectiveness;

(2) The applicant will use the results of the formative evaluation to examine the effectiveness of project implementation strategies and the progress toward achieving intended outcomes; and

(3) Formative evaluation activities during the project period will complement and coordinate with a summative evaluation. The formative evaluation and a final, common summative evaluation for all the Regional PTACs will be developed in consultation with the Regional PTACs and OSEP project officers for the Regional PTACs.

(d) Demonstrate, in the narrative section of the application, under “Adequacy of Project Resources” how—

(1) The proposed personnel, consultants, and contractors are highly qualified and experienced in carrying out the proposed activities and meeting the outcomes identified in the project logic model (see paragraph (f)(2) of this focus area);

(2) The applicant will encourage applications for employment from persons who are members of groups that have traditionally been underrepresented based on race, color, national origin, linguistic diversity, gender, age, or disability, as appropriate; and

(3) The applicant and key partners have adequate resources to carry out proposed project activities.

(e) Demonstrate, in the narrative section of the application, under “Quality of the Management Plan” how—

(1) The proposed management plan will ensure that the outcomes identified in the project logic model (see paragraph (f)(2) of this focus area) will be achieved on time and within budget;

(2) The time of key personnel, consultants, and contractors will be sufficiently allocated to the project;

(3) The proposed management plan will ensure that the services provided are of high quality; and

(4) The applicant will ensure that the proposed project benefits from a diversity of perspectives, including parent center staff, TA providers, researchers, and families, among others.

(f) In the narrative under “Required Project Assurances” or appendices as directed, the applicant must—

(1) Include in Appendix A a logic model that depicts, at a minimum, the goals, activities, outputs, and outcomes of the proposed project. A logic model communicates how a project will achieve its outcomes and provides a framework for both the formative and summative evaluations of the project.

Note: The following Web sites provide more information on logic models: www.researchutilization.org/matrix/logicmodel_resource3c.html and www.tadnet.org/pages/589;

(2) Include in Appendix A, a conceptual framework for the proposed project;

(3) Include in Appendix A, person-loading charts and timelines to illustrate the management plan described in the narrative;

(4) Ensure that the budget includes attendance at the following:

(i) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative;

(ii) A three-day project directors' conference in Washington, DC, during each year of the project period;

(iii) One trip annually to attend Department briefings, Department-sponsored conferences, and other meetings, as requested by OSEP;

(5) Ensure that the budget includes a line item for an annual set-aside of five percent of the grant amount to support emerging needs that are consistent with the proposed project's activities, as those needs are identified in consultation with OSEP.

Note: With approval from the OSEP project officer, the Center must reallocate any remaining funds from this annual set-aside no later than the end of the third quarter of each budget period; and

(6) Ensure that the project maintains a Web site that meets government or industry-recognized standards for accessibility.

Focus Area 3: The requirements of this focus area, the Native American PTAC, are as follows:

(a) Demonstrate, in the narrative section of the application, under “Significance of the Project” how the project—

(1) Addresses parent centers' needs for knowledge of how to provide effective, culturally responsive services that meet the needs of Native American parents of children with disabilities and Native American youth with disabilities for universal, targeted, and intensive TA to increase their capacity to support those families and youth. To address this requirement the applicant must—

(i) Present information on the needs of Native American families of children with disabilities and Native American youth with disabilities, the different systems that provide services to these families and youth, and the best culturally responsive practices for reaching and supporting Native American parents and youth;

(ii) Demonstrate knowledge of best practices on providing training and information to a variety of audiences, particularly Native American parents and youth;

(iii) Demonstrate knowledge of current evidence-based education practices and policy initiatives for Native American children and youth in early childhood, early learning, general and special education, transition services, and postsecondary programs; and

(iv) Demonstrate knowledge of current OSEP TA&D projects, including the RRC program, among others; other Department-funded resources; and other Federal, State, and local resources that serve Native American families and youth; and

(2) Will result in an increased capacity of the parent centers to effectively support and provide services to Native American parents and youth.

(b) Demonstrate, in the narrative section of the application, under “Quality of the Project Services” how the project will—

(1) Conduct a national assessment of the needs of parent centers for—

(i) Knowledge of the needs of Native American families of children with disabilities and Native American youth with disabilities; the different systems that provide services to those families and youth; and the best culturally responsive practices for reaching and supporting Native American families of children with disabilities and Native American youth; and

(ii) Resources and services to increase parent centers' capacity to reach and provide services to Native American families and youth, including making appropriate referrals to other services that support families and youth.

Note: The methods and tools that will be used to conduct the needs assessment will be finalized in consultation with the CPIR, the Regional PTACs, and the OSEP project officer in order to assure coordination and avoid duplication;

(2) Use a conceptual framework and project logic model (see paragraph (f)(2) of this focus area) to guide the development of project plans and activities; and

(3) Provide universal and targeted TA, as appropriate, to parent centers on culturally responsive practices in reaching and supporting Native American families of children with disabilities and Native American youth with disabilities and supporting the participation of Native American parents of children and youth with disabilities in school reform activities, that—

(i) Includes training for a variety of audiences (parent center directors, staff, and members of the boards of directors, among others);

(ii) Includes a variety of formats (newsletters, communities of practice, wikis, among others);

(iii) Increases parent centers' capacity to provide information and training to Native American families on evidence-based education practices that lead to improved early learning, school-aged, and postsecondary outcomes; college- and career-ready standards and assessments; school reform efforts to improve student achievement and increase graduation rates; and the use of data to inform instruction and enhance school reform efforts;

(iv) Increases parent centers' capacity to train Native American youth on their rights and responsibilities and to build their self-advocacy skills;

(v) Uses various methods to deliver TA (in-person, remote, and Web-based, among others);

(vi) Uses best practices for training and providing TA to adult learners;

(vii) Uses technology to increase its efficiency and effectiveness;

(viii) Addresses the needs identified through the needs assessment in paragraph (b)(1) of this focus area;

(ix) Responds to emerging educational and policy initiatives that affect Native American families of children with disabilities and Native American youth with disabilities; and

(x) Makes use of existing knowledge and expertise within parent centers, the CPIR, and the Regional PTACs;

(4) Create new training and information materials for parent centers to use with staff members and Native American families and youth that are responsive to the changing needs of parent centers;

(5) Provide intensive TA to parent centers that request it. The intensive TA may include—

(i) Methods for identifying and accessing needed resources in other parent centers, the CPIR, the Regional PTACs, OSEP TA&D centers, other Department-funded resources, and national and State Native American centers, among others;

(ii) Methods for acting as a “cultural broker” between parent centers and tribal entities, as appropriate;

(iii) In-person, on-site visits with the parent centers in need of intensive TA, as appropriate; and

(iv) Methods for following up with parent centers and providing ongoing support as needed;

(6) Disseminate information to Native American families about the work of the parent centers, OSEP's Technical Assistance and Dissemination Network, OSEP initiatives, and other Department-funded resources and initiatives in collaboration with the CPIR and the Regional PTACs; and

(7) Refer Native American families who contact the Native American PTAC to the appropriate parent centers in a manner that assures that the families' needs will be served; and, as appropriate, incorporates TA to the parent centers to build their capacity to support these families and youth.

(c) Demonstrate, in the narrative section of the application, under “Quality of the Evaluation Plan” how—

(1) The applicant will evaluate the effectiveness of the proposed project by undertaking a formative evaluation and a summative evaluation, including a description of how the applicant will measure the outcomes proposed in the logic model (see paragraph (f)(1) of this focus area). The description must include—

(i) Evaluation methodologies, including proposed instruments, data collection methods, and possible analyses; and

(ii) Proposed standards or targets for determining effectiveness;

(2) The applicant will use the results of the formative evaluation to examine the effectiveness of project implementation strategies and the progress toward achieving intended outcomes; and

(3) Formative evaluation activities during the project period will complement and coordinate with a summative evaluation. The formative and summative evaluation will be developed in consultation with the OSEP project officer.

(d) Demonstrate, in the narrative section of the application, under “Adequacy of Project Resources” how—

(1) The proposed personnel, consultants, and contractors are highly qualified and experienced in carrying out the proposed activities and meeting the outcomes identified in the project logic model (see paragraph (f)(1) of this focus area);

(2) The applicant will encourage applications for employment from persons who are members of groups that have traditionally been underrepresented based on race, color, national origin, linguistic diversity, gender, age, or disability, as appropriate; and

(3) The applicant and key partners have adequate resources to carry out proposed project activities.

(e) Demonstrate, in the narrative section of the application, under “Quality of the Management Plan” how—

(1) The proposed management plan will ensure that the outcomes identified in the project logic model (see paragraph (f)(2) of this focus area) will be achieved on time and within budget;

(2) The time of key personnel, consultants, and contractors will be sufficiently allocated to the project;

(3) The proposed management plan will ensure that the products and services provided are of high quality; and

(4) The applicant will ensure that the proposed project benefits from a diversity of perspectives, including parent center staff, TA providers, researchers, and families, among others.

(f) In the narrative under “Required Project Assurances” or appendices as directed, the applicant must—

(1) Include in Appendix A a logic model that depicts, at a minimum, the goals, activities, outputs, and outcomes of the proposed project. A logic model communicates how a project will achieve its outcomes and provides a framework for both the formative and summative evaluations of the project.

Note: The following Web sites provide more information on logic models: www.researchutilization.org/matrix/logicmodel_resource3c.html and www.tadnet.org/pages/589;

(2) Include in Appendix A, a visual representation of the conceptual framework for the project;

(3) Include in Appendix A, person-loading charts and timelines to illustrate the management plan described in the narrative;

(4) Ensure that the budget includes attendance at the following:

(i) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative.

(ii) A three-day project directors' conference in Washington, DC, during each year of the project period.

(iii) One trip annually to attend Department briefings, Department-sponsored conferences, and other meetings, as requested by OSEP;

(5) Ensure that the budget includes a line item for an annual set-aside of five percent of the grant amount to support emerging needs that are consistent with the proposed project's activities, as those needs are identified in consultation with OSEP.

Note: With approval from the OSEP project officer, the Center must reallocate any remaining funds from this annual set-aside no later than the end of the third quarter of each budget period; and

(6) Ensure that the project maintains a Web site that meets government or industry-recognized standards for accessibility.

Competitive Preference Priorities:

Within this absolute priority, we give competitive preference to applications that address the following priorities.

Under 34 CFR 75.105(c)(2)(i), we will award additional points to an application that meets one or more of these priorities, as follows. We will award an additional 5 points to an applicant under Focus Areas 2 and 3 of the absolute priority that meets Competitive Preference Priority 1. We will award an additional 5 points to an applicant under Focus Area 2 of the absolute priority that meets Competitive Preference Priority 2. We will award an additional 5 points to an applicant under Focus Area 3 of the absolute priority that meets Competitive Preference Priority 3.

These priorities are:

Competitive Preference Priority 1—Applicants under Focus Areas 2 and 3 that are parent organizations.

Section 671(a)(2) of IDEA defines a “parent organization” as a private nonprofit organization (other than an institution of higher education) that—

(A) Has a board of directors—

(i) The majority of whom are parents of children with disabilities ages birth through 26;

(ii) That includes—

(I) Individuals working in the fields of special education, related services, and early intervention;

(II) Individuals with disabilities; and

(iii) The parent and professional members of which are broadly representative of the population to be served, including low-income parents and parents of limited English proficient children; and

(B) Has as its mission serving families of children with disabilities who—

(i) Are ages birth through 26; and

(ii) Have the full range of disabilities described in section 602(3) of IDEA.

Competitive Preference Priority 2—Applicants under Focus Area 2 that are located in the region they propose to serve.

Competitive Preference Priority 3—Applicants under Focus Area 3 that are Native American organizations.

A Native American organization is a nonprofit organization with Native Americans constituting a majority of the members of the board of directors.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1471, 1472, 1473, and 1481.

Applicable Regulations: (a) The Education Department General Administrative Regulations (EDGAR) in 34 CFR parts 74, 75, 77, 79, 81, 82, 84, 97, 98, and 99. (b) The Education Department debarment and suspension regulations in 2 CFR part 3485.

Note: The regulations in 34 CFR part 79 apply to all applicants except federally recognized Indian tribes.

II. Award Information

Type of Award: Cooperative agreements.

Estimated Available Funds: $1,866,402 for the first year; $2,705,000 in the second year; $2,645,000 for the third year; and $2,600,000 for the subsequent years.

Contingent upon the availability of funds and the quality of applications, we may make additional awards in FY 2014 from the list of unfunded applicants from this competition.

Estimated Range of Awards: See chart.

Estimated Average Size of Awards: See chart.

Maximum Award: See chart.

Estimated Number of Awards: See chart.

Note: The Department is not bound by any estimates in this notice.

Project Period: Up to 60 months.

Training and Information for Parents of Children With Disabilities Program Application Notice for Fiscal Year 2013
CFDA No. and name | Estimated available funds | Estimated average size of awards | Maximum award (per year) | Estimated number of awards | Project period | Contact person
84.328R Technical Assistance for Parent Centers |  |  |  |  |  | Carmen Sanchez, (202) 245-6595 Rm 4057.
Focus Area 1: CPIR | Year 1: $400,000 | Year 1: $400,000 | Year 1: $400,000 * | 1 | Up to 60 mos.
| Year 2: $605,000 | Year 2: $605,000 | Year 2: $605,000.*
| Year 3: $545,000 | Year 3: $545,000 | Year 3: $545,000.*
| Year 4: $500,000 | Year 4: $500,000 | Year 4: $500,000.*
| Year 5: $500,000 | Year 5: $500,000 | Year 5: $500,000.*
Focus Area 2: Regional PTAC | Year 1: $1,256,916 | Year 1: $209,486 | Year 1: $209,486.* | 6 | Up to 60 mos.
| Years 2-5: $1,800,000 | Years 2-5: $300,000 | Years 2-5: $300,000.*
Focus Area 3: Native American PTAC | Year 1: $209,486 | Year 1: $209,486 | Year 1: $209,486.* | 1 | Up to 60 mos.
| Years 2-5: $300,000 | Years 2-5: $300,000 | Years 2-5: $300,000.*
* We will reject any application that proposes a budget exceeding the maximum award for a single budget period of 12 months. The Assistant Secretary for Special Education and Rehabilitative Services may change the maximum amount through a notice published in the Federal Register.

Note: The Department is not bound by any estimates in this notice.

III. Eligibility Information

1. Eligible Applicants: Nonprofit private organizations.

2. Cost Sharing or Matching: This program does not require cost sharing or matching.

3. Other: General Requirements—(a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.328R.

To obtain a copy from the program office, contact the person listed under FOR FURTHER INFORMATION CONTACT in section VII of this notice.

Individuals with disabilities can obtain a copy of the application package in an accessible format (e.g., Braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

3. Submission Dates and Times:

Applications Available: June 3, 2013.

Deadline for Transmittal of Applications: July 18, 2013.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 16, 2013.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the Technical Assistance for Parent Centers, CFDA number 84.328R, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Technical Assistance for Parent Centers, CFDA number 84.328R, at www.Grants.gov. You must search for the downloadable application package for this program by the CFDA number. Do not include the CFDA number's alpha suffix in your search (e.g., search for 84.328, not 84.328R).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because-

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Carmen Sanchez, U.S. Department of Education, 400 Maryland Avenue SW., Room 4057, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.328R) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.328R)550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Parent Training and Information Centers program. For purposes of this priority, the Center will use these measures, which focus on the extent to which projects provide high-quality products and services, the relevance of project products and services to educational and early intervention policy and practice, and the use of products and services to improve educational and early intervention policy and practice. Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carmen Sanchez, U.S. Department of Education, 400 Maryland Avenue SW., room 4057, PCP, Washington, DC 20202-2600. Telephone: (202) 245-6595.

If you use a TDD or a TTY, call the Federal Relay Service (FRS), toll free, at 1-800-877-8339.

VIII. Other Information

Accessible Format: Individuals with disabilities can obtain this document and a copy of the application package in an accessible format (e.g., Braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 29, 2013.
Michael K. Yudin,
Delegated the authority to perform the functions and duties of the Assistant Secretary for Special Education and Rehabilitative Services.

[FR Doc. 2013-13094 Filed 5-31-13; 8:45 am]

BILLING CODE 4000-01-P